DEPARTMENT OF ENERGY

[OE Docket No. PP-398]

Notice of Availability (NOA) for the Draft Environmental Impact Statement (EIS) and Announcement of Public Hearings for the Proposed Great Northern Transmission Line (GNTL) Project

AGENCY: U.S. Department of Energy.

ACTION: Notice of availability and public hearings.

SUMMARY: The U.S. Department of Energy (DOE) announces the availability of the “Great Northern Transmission Line Project Draft Environmental Impact Statement” (DOE/EIS-0499) for public review and comment. DOE is also announcing eight public hearings to receive comments on the Draft EIS. The Draft EIS evaluates the environmental impacts of DOE's proposed Federal action of issuing a Presidential permit to the Applicant: Minnesota Power, a regulated utility division of ALLETE, Inc., to construct, operate, maintain, and connect a new electric transmission line across the U.S./Canada border in northern Minnesota. It also addresses the potential human and environmental impacts of the project, and possible mitigation measures, including route, alignment, and site alternatives required for a transmission line route permit from the Minnesota Public Utilities Commission under the Minnesota Power Plant Siting Act.

The EIS was jointly prepared by DOE with the Minnesota Department of Commerce—Environmental Energy Review and Analysis (MN DOC-EERA) acting as state co-lead in order to avoid duplication, and to comply with the environmental review requirements under both federal and state regulations. Region 5 of the U.S. Environmental Protection Agency (USEPA), the St. Paul District Office of the U.S. Army Corps of Engineers (USACE), and the Twin Cities Ecology Field Office of the U.S. Fish and Wildlife Service (USFWS) are cooperating agencies in preparing the GNTL Project EIS.

DATES: DOE invites interested Members of Congress, state and local governments, other Federal agencies, American Indian tribal governments, organizations, and members of the public to provide comments on the Draft EIS during the 45-day public comment period. The public comment period starts on June 26, 2015, with the publication in the Federal Register by the U.S. Environmental Protection Agency of its Notice of Availability of the Draft EIS, and will continue until August 10, 2015. Written and oral comments will be given equal weight and all comments received or postmarked by that date will be considered by DOE in preparing the Final EIS. Comments received or postmarked after that date will be considered to the extent practicable.

Locations, dates, and start time for the public hearings are listed in the SUPPLEMENTARY INFORMATION section of this NOA.

ADDRESSES: Requests to provide oral comments at the public hearings may be made at the time of the hearing(s).

Written comments on the Draft EIS may be provided on the GNTL EIS Web site at http://www.greatnortherneis.org/ (preferred) or addressed to Dr. Julie A. Smith, Office of Electricity Delivery and Energy Reliability (OE-20), U.S. Department of Energy, 1000 Independence Avenue SW., Washington, DC 20585; by electronic mail to Juliea.Smith@hq.doe.gov; or by facsimile to 202-318-7761.

FOR FURTHER INFORMATION CONTACT: Dr. Julie A. Smith at the addresses above, or at 202-586-7668.

SUPPLEMENTARY INFORMATION: Joint federal-state public hearings and information meetings will consist of the formal taking of comments with transcription by a court reporter. The hearings will provide interested parties the opportunity to make comments for consideration by DOE and MN DOC-EERA in the preparation of the Final EIS.

The locations, dates, and starting times of the public hearings are listed in the table below:

Location | Date and time | Address
Roseau Civic Center | July 15, 2015, 11:00 a.m.-3:00 p.m. | 121 Center Street E., Roseau, MN.
Lake of the Woods School | July 15, 2015, 6:00 p.m.-10:00 p.m. | 236 15th Ave. SW., Baudette, MN.
Littlefork Community Center | July 16, 2015, 11:00 a.m.-3:00 p.m. | 220 Main Street, Littlefork, MN.
AmericInn | July 16, 2015, 6:00 p.m.-10:00 p.m. | 1500 Hwy. 71, International Falls, MN.
Kelliher Old School Center | July 21, 2015, 11:00 a.m.-3:00 p.m. | 243 Clark Ave. N. (Hwy 72), Kelliher, MN.
Bigfork School | July 21, 2015, 6:00 p.m.-10:00 p.m. | 100 Huskie Blvd., Bigfork, MN.
Timber Lake Lodge | July 22, 2015, 11:00 a.m.-3:00 p.m. | 144 SE. 17th Street, Grand Rapids, MN.
Timber Lake Lodge | July 22, 2015, 6:00 p.m.-10:00 p.m. | 144 SE. 17th Street, Grand Rapids, MN.

Availability of the Draft EIS Copies of the Draft EIS have been distributed to appropriate members of Congress, state and local government officials, American Indian tribal governments, and other Federal agencies, groups, and interested parties. Printed copies of the document may be obtained by contacting Dr. Smith at the above address. Copies of the Draft EIS and supporting documents are also available for inspection at the following locations:

• Baudette Library, 110 1st Street SW., Baudette, MN

• Blackduck Public Library, 72 1st Street SE., Blackduck, MN

• Bovey Public Library, 402 2nd Street, Bovey, MN

• Calumet Library, 932 Gary Street, Calumet, MN

• Coleraine Public Library, 203 Cole Street, Coleraine

• Duluth Public Library, 520 W Superior Street, Duluth, MN

• Grand Rapids Public Library, 140 NE 2nd Street, Grand Rapids, MN

• Greenbush Public Library, P.O. Box 9, Greenbush, MN

• International Falls Public Library, 750 4th Street, International Falls, MN

• Marble Public Library, 302 Alice Avenue, Marble, MN

• Northome Public Library, 12064 Main Street, Northome, MN

• Roseau Public Library, 121 Center Street E., Suite 100, Roseau, MN

• Warroad Public Library, 202 Main Avenue NE., Warroad, MN

• Williams Public Library, 350 Main Street, Williams, MN

The Draft EIS is also available on the EIS Web site at http://www.greatnortherneis.org/ and on the DOE NEPA Web site at http://nepa.energy.gov/.

Issued in Washington, DC on June 18, 2015.
Eli Massey,
Acting Deputy Assistant Secretary, National Electricity Delivery Division, Office of Electricity Delivery and Energy Reliability.

[FR Doc. 2015-15625 Filed 6-25-15; 8:45 am]

BILLING CODE 6450-01-P